FEDERAL COMMUNICATIONS COMMISSION

47 CFR Part 64

[CG Docket Nos. 13-24 and 03-123; FCC 13-13]

Misuse of Internet Protocol (IP) Captioned Telephone Service; Telecommunications Relay Services and Speech-to-Speech Services for Individuals With Hearing and Speech Disabilities

AGENCY: Federal Communications Commission.

ACTION: Interim rule; announcement of effective date.

SUMMARY: In this document, the Commission announces that the Office of Management and Budget (OMB) has approved, for a period of six months, the information collection associated with the Commission's Misuse of Internet Protocol (IP) Captioned Telephone Service; Telecommunications Relay Services and Speech-to-Speech Services for Individuals with Hearing and Speech Disabilities, Order (Order). This document is consistent with the Order, which stated that the Commission would publish a document in the Federal Register announcing OMB approval and the effective date of the requirements.

DATES: 47 CFR 64.604(c)(9), published at 78 FR 8032, February 5, 2013, is effective from March 7, 2013 through September 3, 2013.

FOR FURTHER INFORMATION CONTACT: Eliot Greenwald, Consumer and Governmental Affairs Bureau, Disability Rights Office, at (202) 418-2235075, or email Eliot.Greewald@fcc.gov.

SUPPLEMENTARY INFORMATION: This document announces that, on February 25, 2013, OMB approved, for a period of six months, the new information collection requirements contained in the Commission's Order, FCC 13-13, published at 78 FR 8032, February 5, 2013. The OMB Control Number is 3060-1182. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-1182, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on February 25, 2013, for the new information collection requirements contained in the Commission's rules at 47 CFR 64.604(c)(9).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1182.

The foregoing notice is required by the Paperwork Reduction Act of 1995, Public Law 104-13, October 1, 1995, and 44 U.S.C. 3507.

The total annual reporting burdens and costs for the respondents are as follows:

OMB Control Number: 3060-1182.

OMB Approval Date: February 25, 2013.

OMB Expiration Date: August 31, 2013.

Title: Section 64.604(c)(9), Emergency Interim Rule for Registration and Documentation of Disability for Eligibility to Use IP Captioned Telephone Service, CG Docket Nos. 13-24 and 03-123.

Form Number: N/A.

Type of Review: New collection.

Respondents: Businesses or other for-profit entities; individuals or households.

Number of Respondents and Responses: 12,004 respondents; 24,000 responses.

Estimated Time per Response: 30 minutes (.50 hours) to 1 hour.

Frequency of Response: On-going reporting requirement; One-time reporting requirement; Third party disclosure requirement.

Obligation to Respond: Required to obtain or retain benefits. The statutory authority for this information collection is Sec. 225 [47 U.S.C. 225] Telecommunications Services for Hearing-Impaired and Speech-Impaired Individuals; The Americans with Disabilities Act of 1990 (ADA), Public Law 101-336, 104 Stat. 327, 366-69, enacted on July 26, 1990.

Total Annual Burden: 18,000 hours.

Total Annual Cost: $600,000.

Nature and Extent of Confidentiality: An assurance of confidentiality is not offered because this information collection does not require the collection of personally identifiable information (PII) from individuals.

Privacy Impact Assessment: No impact(s).

Needs and Uses: In the Emergency Interim Order (IP CTS Interim Order) the Commission finds good cause to adopt on an emergency basis interim rules requiring each Internet Protocol Captioned Telephone Service (IP CTS) provider, in order to be eligible for compensation from the Interstate Telecommunications Relay Service (TRS) Fund (Fund) for providing service to each new IP CTS user to register each new IP CTS user. As part of the registration process, each IP CTS provider must obtain from each user a self-certification that (1) The user has a hearing loss that necessitates IP CTS to communicate in a manner that is functionally equivalent to communication by conventional voice telephone users; (2) the user understands that the captioning service is provided by a live communications assistant (CA); and (3) the user understands that the cost of the IP CTS calls is funded by the TRS Fund. Where the consumer accepts IP CTS equipment at a price below $75 from any source other than a governmental program, the IP CTS provider must also obtain from the user a certification from an independent, third-party professional attesting to the same. IP CTS providers are required to maintain the confidentiality of the registration and certification information that they obtain, as well as the content of such information, except as required by law. The Commission takes this action to prevent the unnecessary subscription to and use of the service by consumers without a hearing loss that necessitates the use of IP CTS to obtain functionally equivalent telephone service. If left unchecked, the TRS Fund that disburses to IP CTS providers may be compromised due to an unprecedented growth in new IP CTS consumers. The action taken in this IP CTS Interim Order will enable the Commission to better control the level of TRS disbursements and protect the programmatic, legal, and financial integrity of the TRS program. Conversely, failing to take immediate action to stem such practices could well threaten the availability of the IP CTS service and other relay services that are supported by the Fund for the benefit of legitimate users.

Federal Communications Commission.
Marlene H. Dortch,
Secretary.

[FR Doc. 2013-04986 Filed 3-6-13; 8:45 am]

BILLING CODE 6712-01-P